FEDERAL COMMUNICATIONS COMMISSION

Notice of Public Information Collection(s) Being Reviewed by the Federal Communications Commission

March 15, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 23, 2001. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-XXXX.

Title: Promotion of Competitive Networks in Local Telecommunications Markets Multiple Environments (47 CFR Parts 1, 64, and 68).

Form No.: N/A.

Type of Review: New collection.

Respondents: Individuals or households, businesses or other for-profit, not-for-profit institutions, federal government, and state, local or tribal government.

Number of Respondents: 6,421.

Estimated Time Per Response: .50-120 hours.

Frequency of Response: On occasion reporting requirement, third party disclosure requirement.

Total Annual Burden: 623,910 hours.

Total Annual Cost: N/A.

Needs and Uses: The First Report and Order and Further Notice of Proposed Rulemaking in WT Docket 99-217, to foster competition in local communications markets by implementing measure to ensure that competing telecommunications providers are able to provide services to customers in multiple tenant environments (“MTE”).

Specifically, the Order (1) prohibits carriers from entering into contracts that restrict or effectively restrict a property owner's ability to permit entry by competing carriers; (2) establishes procedures to facilitate moving the demarcation point to the minimum point of entry (“MPOE”) at the building owner's request, and requires incumbent local exchange carriers (“LECs”) to timely disclose the location of existing demarcation points where they are not located at the MPOE; (3) determines that, under section 224 of the Communications Act, utilities, including LECs, must afford telecommunications carriers and cable service providers reasonable and nondiscriminatory access to conduits and right-of-way located in customer buildings and campuses, to the extent such conduits and rights-of-way located are owned and controlled by the utility; and (4) extends to antennas that receive and transmit telecommunications and other fixed wireless signals of the existing prohibition of restrictions that impair the installation, maintenance or use of certain video antennas on property within the exclusive use or control of the antenna user, where the use has a direct or indirect ownership or leasehold interest in the property.

Federal Communications Commission.
Magalie Roman Salas,
Secretary.

[FR Doc. 01-7096 Filed 3-21-01; 8:45 am]

BILLING CODE 6712-01-P